DEPARTMENT OF HEALTH AND HUMAN SERVICES

[Document Identifier: OS-4040-0014]

Agency Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 2, 2018.

ADDRESSES: Submit your comments to Sherrette.Funn@hhs.gov or by calling (202) 795-7714.

FOR FURTHER INFORMATION CONTACT: When submitting comments or requesting information, please include the document identifier 4040-0014-60D and project title for reference to Sherrette.funn@hhs.gov, or call the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Federal Financial Report (SF-425) and Federal Financial Report Attachment (SF-425A).

Type of Collection: Extension.

OMB No.: 4040-0014.

Abstract: Federal Financial Report (SF-425) and Federal Financial Report Attachment (SF-425A) are used by applicants to apply for Federal financial assistance. The Federal Financial Report (SF-425) and Federal Financial Report Attachment (SF-425A) forms allow the applicants to provide certain financial information as part of their grant proposals. These forms are evaluated by Federal agencies as part of the overall grant application. Grants.gov seeks a 3-year extension.

Type of Respondent: The Federal Financial Report (SF-425) and Federal Financial Report Attachment (SF-425A) forms are used by organizations to apply for Federal financial assistance in the form of grants. These forms are submitted to the Federal grant-making agencies for evaluation and review.

Annualized Burden Hour Table
Forms (if necessary) | Respondents (if necessary) | Number of respondents | Number of responses per respondents | Average burden per response | Total burden hours
The Federal Financial Report (SF-425) | Grant-seeking organizations | 100,000 | 1 | 1 | 100,000
The Federal Financial Report Attachment (SF-425A) | Grant-seeking organizations | 100,000 | 1 | 1 | 100,000
Total |  |  | 1 |  | 200,000

Terry Clark,
Office of the Secretary, Asst. Paperwork Reduction Act Reports Clearance Officer.

[FR Doc. 2018-09143 Filed 4-30-18; 8:45 am]

BILLING CODE 4151-AE-P